DEPARTMENT OF TRANSPORTATION

Maritime Administration

[Docket No. Marad 2008 0088]

Information Collection Available for Public Comments and Recommendations

ACTION: Notice of intention to request extension of OMB approval and request for comments.

SUMMARY: In accordance with the Paperwork Reduction Act of 1995, this notice announces the Maritime Administration's (MARAD's) intention to request extension of approval (with modifications) for three years of a currently approved information collection.

DATES: Comments should be submitted on or before November 24, 2008.

FOR FURTHER INFORMATION CONTACT: Rita Jackson by Telephone: 202-366-0248; or e-mail: rita.jackson@dot.gov, or Anne Dougherty by Telephone: 202-366-5469; or e-mail: anne.dougherty@dot.gov, Maritime Administration, 1200 New Jersey Avenue, SE., Washington, DC 20590.

SUPPLEMENTARY INFORMATION: Maritime Administration (MARAD).

Title of Collection: Service Obligation Compliance Report and Merchant Marine Reserve U.S. Naval Reserve Annual Report.

Type of Request: Extension of currently approved information collection.

OMB Control Number: 2133-0509.

Form Numbers: MA-930.

Expiration Date of Approval: Three years from date of approval by the Office of Management and Budget.

Summary of Collection of Information: The Maritime Education and Training Act of 1980, imposes a service obligation on every graduate of the U.S. Merchant Marine Academy and every subsidized State maritime academy graduate who received a student incentive payment. This mandatory service obligation is for the Federal financial assistance and graduate to maintain a license as an officer in the merchant marine and to report annually on reserve status, training and employment.

Need and Use of the Information: This information collection is necessary to determine if a graduate of the U.S. Merchant Marine Academy or subsidized State maritime academy graduate is complying with the terms of the service obligation.

Description of Respondents: Graduates of the U.S. Merchant Marine Academy and every subsidized State maritime academy graduate who receive a student incentive payment.

Annual Responses: 1436 response.

Annual Burden: 718 hours.

Comments: Comments should refer to the docket number that appears at the top of this document. Written comments may be submitted to the Docket Clerk, U.S. DOT Dockets, Room W12-140, 1200 New Jersey Avenue, SE., Washington, DC 20590. Comments also may be submitted by electronic means via the Internet at http://www.regulations.gov/search/index.jsp. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://www.regulations.gov/search/index.jsp.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://www.regulations.gov/search/index.jsp.

Authority: 49 CFR 1.66.

By order of the Maritime Administrator.
Dated: September 18, 2008.
Leonard Sutter,
Secretary, Maritime Administration.

[FR Doc. E8-22227 Filed 9-22-08; 8:45 am]

BILLING CODE 4910-81-P